DEPARTMENT OF TRANSPORTATION

Federal Highway Administration

Notice of Final Federal Agency Actions on Proposed Highway in California

AGENCY: Federal Highway Administration (FHWA), DOT.

ACTION: Notice of limitation on claims for judicial review of actions by the California Department of Transportation (Caltrans), pursuant to 23 U.S.C. 327.

SUMMARY: The FHWA, on behalf of Caltrans, is issuing this notice to announce actions taken by Caltrans that are final within the meaning of 23 U.S.C. 139(l)(1). The actions relate to a proposed bridge widening and rehabilitation project, the North Spring Street Viaduct Widening and Rehabilitation in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 27, 2012. If the Federal law that authorizes judicial review of a claim provides a time period of less than 180 days for filing such claim, then that shorter time period still applies.

FOR FURTHER INFORMATION CONTACT: Ollie Jackson, Senior Environmental Planner, Caltrans, District 7, Division of Environmental Planning, 100 South Main Street, Suite 100, Los Angeles, CA 90012-3712, (213) 897-8610, ollie_jackson@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans have taken final agency actions subject to 23 U.S.C. 139(l)(1) by issuing licenses, permits, and approvals for the following highway project in the State of California: The City of Los Angeles in cooperation with Caltrans proposes improvements and rehabilitation to the existing North Spring Viaduct and its adjoining roadways. The proposed project area is situated northeast of downtown Los Angeles in an area that includes residential, commercial, industrial, and open space land uses. The proposed project area straddles portions of the Central City North and Northeast Los Angeles Community Planning areas. Regional transportation facilities in the area include interstate 110 (I-110), Interstate 5 (I-5), and State Route 101 (SR-101). Completing the project would correct existing geometrical and design deficiencies, and to address seismic vulnerability issues in order to increase the viaduct's SR to a minimum of 80. An additional purpose of the project is to improve bicycle and pedestrian circulation and safety across the river and railroad tracks. The actions by the Federal agencies, and the laws under which such actions were taken, are described in the Finding of No Significant Impact (FONSI) for the project, approved on June 30, 2011. The FONSI and other project records are available by contacting Caltrans at the addresses provided above. The Caltrans FONSI can be viewed and downloaded from the project Web site at http://www.dot.ca.gov/dist07/resources/envdocs/.

This notice applies to all Federal agency decisions as of the issuance date of this notice and all laws under which such actions were taken, including but not limited to:

• General: National Environmental Policy Act (NEPA) [42 U.S.C. 4321-4351]; Federal Aid Highway Act; [23 U.S.C. 109].

• Air: Clean Air Act 42 U.S.C. 7401-7671(q).

• Migratory Bird Treaty Act [16 U.S.C. 703-712]

• Historic and Cultural Resources: Section 106 of the National Historic Preservation Act of 1966, as amended [16 U.S.C. 470(aa)-11].

• Social and Economic: Civil Rights Act of 1964 [42 U.S.C. 2000(d)-2000(d) (1)]; The Uniform Relocation Assistance Act and Real Property Acquisition Policies Act of 1970, as amended.

• Hazardous Materials: Comprehensive Environmental response, Compensation, and Liability Act (CERCLA), 42 U.S.C. 9601-9675; Superfund Amendments and Reauthorization Act of 1986 (SARA);

• Executive Orders: E.O. 11990 Protection of Wetlands; E.O. 11988 Floodplain Management; E.O. 12898 Federal Actions to Address Environmental Justice in Minority Populations and Low Income Populations; E.O. 11593 Protection and Enhancement of Cultural Resources; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: August 24, 2011.
Vincent P. Mammano.
Division Administrator, Federal Highway Administration, Sacramento, California.

[FR Doc. 2011-22077 Filed 8-29-11; 8:45 am]

BILLING CODE 4910-RY-P